DEPARTMENT OF THE TREASURY

Submission for OMB Review; Comment Request

March 14, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 21, 2003, to be assured of consideration.

Financial Management Service (FMS)

OMB Number: 1510-0037.

Form Number: TFS 5135.

Type of Review: Extension.

Title: Voucher for Payment of Awards.

Description: Awards certified to Treasury are paid annually as funds are received from foreign governments. Vouchers are mailed to awardholders showing payments due. Awardholders sign vouchers certifying that he/she is entitled to payment. Executed vouchers are used as basis for payment.

Respondents: Individuals or households.

Estimated Number of Respondents: 1,400.

Estimated Burden Hours Per Respondent: 30 minutes.

Frequency of Response: Other (as needed).

Estimated Total Reporting Burden: 700 hours.

Clearance Officer: Juanita Holder, Financial Management Service, 3700 East West Highway, Room 135, PGP II, Hyattsville, MD 20782.

OMB Reviewer: Joseph F. Lackey, Jr., (202) 395-7316, Office of Management and Budget, Room 10235, New Executive Office Building, Washington, DC 20503.

Mary A. Able,
Departmental Reports Management Officer.

[FR Doc. 03-6826 Filed 3-20-03; 8:45 am]

BILLING CODE 4810-35-P